COMMISSION ON CIVIL RIGHTS

Notice of Public Meeting of the Hawai'i Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Hawai'i Advisory Committee to the Commission will convene by ZoomGov on Monday, November 7, 2022, from 9:00 a.m. to 10:30 a.m. HST, to discuss and potentially vote on a project topic.

DATES: Monday, November 7, 2022, from 9:00 a.m.-10:30 a.m. HST.

Zoom Link: https://tinyurl.com/yck26akb.

Audio: (551) 285-1373; Meeting ID: 160 192 4110

FOR FURTHER INFORMATION CONTACT: Kayla Fajota, Designated Federal Officer (DFO) at kfajota@usccr.gov or by phone at (434) 515-2395.

SUPPLEMENTARY INFORMATION: This meeting is available to the public through the Zoom link above. Persons with hearing impairments may also follow the proceedings by first calling the Federal Relay Service at 1-800-877-8339 and providing the Service with the call-in number found through registering at the web link provided for this meeting.

Members of the public are entitled to make comments during the open period at the end of the meeting. Members of the public may also submit written comments; the comments must be received in the Regional Programs Unit within 30 days following the meeting. Written comments may be emailed to Kayla Fajota at kfajota@usccr.gov.

Records and documents discussed during the meeting will be available for public viewing prior to and after the meeting at https://www.facadatabase.gov/FACA/FACAPublicViewCommitteeDetails?id=a10t0000001gzl0AAA.

Please click on “Committee Meetings” tab. Records generated from this meeting may also be inspected and reproduced at the Regional Programs Unit, as they become available, both before and after the meeting. Persons interested in the work of this Committee are directed to the Commission's website, https://www.usccr.gov, or may contact the Regional Programs Unit at the above phone number or email address.

Agenda

I. Welcome and Roll Call

II. Approval of August 23, 2022, Meeting Minutes

III. Discussion and Potential Vote: Potential Project Topic

IV. Next Steps

V. Public Comment

VI. Adjournment

Dated: October 4, 2022.
David Mussatt,
Supervisory Chief, Regional Programs Unit.

[FR Doc. 2022-21907 Filed 10-6-22; 8:45 am]

BILLING CODE P